DEPARTMENT OF THE INTERIOR

National Park Service

Environmental Assessment for the Yellow Barn/Chautauqua Tower Rehabilitation

AGENCY: National Park Service, Interior.

ACTION: Availability of the Environmental Assessment for the Yellow Barn/Chautauqua Tower Rehabilitation, Montgomery County, Maryland.

SUMMARY: Pursuant to Council on Environmental Quality regulations and National Park Service (NPS) policy, the NPS announces the availability of an Environmental Assessment (EA) for the rehabilitation/reconstruction of the Yellow Barn and Chautauqua Tower at Glen Echo Park, a unit of the George Washington Memorial Parkway. Glen Echo Park is the site of a former amusement park that operated from the late 1890's to 1968. The park is currently operated under a Cooperative Agreement between Montgomery County and the NPS. The buildings provide the Glen Echo Park Partnership for Arts and Culture with administrative space, classrooms, and artists studios. the Chautauqua Tower was constructed in 1891 and the Yellow Barn in 1914 and both buildings are listed on the National Register of Historic Places as contributing elements of the Glen Echo Park Historic District. The Electrical/Mechanical/Plumbing systems of both buildings have reached the end of their design life. Both buildings suffer from numerous structural defects which adversely affect the availability of education and program space. Significant portions of both buildings cannot currently be used due to structural instability or lack of appropriate egress. The EA examines several alternatives for the rehabilitation/reconstruction of the buildings. The subject project is designed to provide safe, accessible classroom and studio space to park users, while maintaining the character of the Glen Echo Park Historic District. The NPS is soliciting comments on this EA. These comments will be considered in evaluating it and making decisions pursuant to the National Environmental Policy Act.

DATES: The EA will remain available for public comment until January 9, 2003. Written comments should be received no later than this date.

ADDRESSES: Comments on this EA should be submitted in writing to: Ms. Audrey F. Calhoun, Superintendent, George Washington Memorial Parkway, Turkey Run Park, McLean, Virginia 22101. The EA will be available for public inspection Monday through Friday, 8 a.m. through 4 p.m. at the GWMP Headquarters, Turkey Run Park, McLean, Virginia; and at the following libraries: Little Falls Library, 5501 Massachusetts Avenue, Bethesda, Maryland, Potomac Library, 10101 Glenolden Drive, Potomac, Maryland, and Bethesda Library, 7400 Arlington Road, Bethesda, Maryland.

SUPPLEMENTARY INFORMATION: An Environmental Impact Statement (EIS) analyzed and selected a Management Plan for Glen Echo Park in February 2001. This Management Plan aims to balance natural/cultural resource protection and visitor use. Pursuant to the EIS, the stabilization and rehabilitation of Glen Echo Park structures will proceed in accordance with the recommendations in the Cost Estimating Criteria for Stabilization & Rehabilitation of Historic Glen Echo Park (Vitetta Group, 1998) and the subsequent Glen Echo Park Stabilization and Rehabilitation Plan (NPS, Montgomery County, State of Maryland, 1999). Rehabilitation projects have already been completed on the Spanish Ballroom and the North Arcade, two additional contributing elements to the Glen Echo Historic District as part of the Glen Echo Park Rehabilitation Project, pursuant to cooperative agreement between the State of Maryland, Montgomery County, and the NPS. Work on this project began in 1999 and is scheduled to finish in 2005.

All interested individuals, agencies, and organizations are urged to provide comments on the EA. The NPS, in making a final decision regarding this matter, will consider all comments received by the closing date.

FOR FURTHER INFORMATION CONTACT: Park Ranger Jeffrey Pinkard (703) 289-2516.

Audrey F. Calhoun,
Superintendent, George Washington Memorial Parkway.

[FR Doc. 03-30558 Filed 12-9-03; 8:45 am]

BILLING CODE 4310-DC-M